DEPARTMENT OF AGRICULTURE

Submission for OMB Review; Comment Request

February 8, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business Service

Title: 7 CFR 1951-R, Rural Development Loan Servicing.

OMB Control Number: 0570-0015.

Summary of Collection: The Rural Development (RD) Loan Servicing was legislated in 1985 under Section 1323 of the Food and Security Act of 1985. This action is needed to implement the provision of Section 407 of the Health and Human Services Act of 1986, which amended Section 1323 of the Food and Security Act of 1985. 7 CFR part 1951, subpart R contains regulations for servicing and liquidating existing loans previously approved and administered by the U.S. Department of Health and Human Services (HHS) under 45 CFR part 1076 and transferred from HHS to the Department of Agriculture. This subpart contains regulations for servicing and liquidating loans made by RD, successor to the Farmers Home Administration under the Intermediary Relending Program to eligible intermediaries and applies to ultimate recipients and other involved parties.

Need and Use of the Information: The Intermediary will provide RD information from, i.e. assets and liabilities, income statement and a summary of its lending and guarantee program. Form 1951-4 gathers information about jobs created or saved for the Intermediary Relending Program and Rural Development Loan Fund. The required financial information provided by the Intermediary is vital to RD for the Agency to make sound credit and financial analysis decisions and monitor the program.

Description of Respondents: Not-for-profit institutions; Business or other for-profit.

Number of Respondents: 465.

Frequency of Responses: Reporting: On occasion; Quarterly; Semi-annually; Annually.

Total Burden Hours: 11,992.

Charlene Parker,
Departmental Information Collection Clearance Officer.

[FR Doc. 2012-3316 Filed 2-13-12; 8:45 am]

BILLING CODE 3410-XT-P